SMALL BUSINESS ADMINISTRATION

[Declaration of Disaster #3361]

Commonwealth of Kentucky; (Amendment #1)

In accordance with a notice received from the Federal Emergency Management Agency, dated October 23, 2001, the above numbered Declaration is hereby amended to extend the deadline for filing applications for physical damages as a result of this disaster to October 22, 2001.

All other information remains the same, i.e., the deadline for filing applications for economic injury is May 16, 2002.

(Catalog of Federal Domestic Assistance Program Nos. 59002 and 59008.)

Dated: October 23, 2001.
Herbert L. Mitchell,
Associate Administrator, For Disaster Assistance.

[FR Doc. 01-27209 Filed 10-29-01; 8:45 am]

BILLING CODE 8025-01-P